DEPARTMENT OF COMMERCE

Submission for OMB Review; Comment Request

The Department of Commerce (DOC) has submitted to the Office of Management and Budget (OMB) for clearance the following proposal for collection of information under provisions of the Paperwork Reduction Act (44 U.S.C. Chapter 35).

Agency: National Telecommunications and Information Administration (NTIA).

Title: Public Telecommunications Facilities Program (PTFP) Application Form.

Agency Form Number: None.

OMB Approval Number: 0660-0003.

Type of Request: Revision of currently approved form.

Burden Hours: 40,250.

Average Hour Per Response: 89.

Number of Respondents: 450.

Needs and Uses: The Public Broadcasting Act authorizes grants to be awarded for the planning and construction of public telecommunications facilities. Members of the public telecommunications community must complete a standardized form to provide information of evaluation by PTFP through a competitive review process.

Affected Public: State and local governments and non-profit institutions.

Frequency: Annually.

Respondent's Obligation: Required to obtain or retain benefits.

OMB Desk Officer: David Rostker, (202) 395-3897.

Copies of the above information collection proposal can be obtained by calling or writing Madeleine Clayton, DOC Forms Clearance Officer, (202) 482-3129, U.S. Department of Commerce, Room 6086, 14th and Constitution Avenue, NW, Washington, DC 20230 (or via the Internet at MClayton@doc.gov).

Written comments and recommendations for the proposed information collection should be sent within 30 days of publication of this notice to David Rostker, Desk Officer, Room 10202, New Executive Office Building, Washington, DC 20503.

Dated: August 23, 2000.
Madeleine Clayton,
Departmental Forms Clearance Officer, Office of the Chief Information Officer.

[FR Doc. 00-21892 Filed 8-25-00; 8:45 am]

BILLING CODE 3510-DS-P